UNITED STATES INSTITUTE OF PEACE

Sunshine Act Meeting

AGENCY: United States Institute of Peace.

DATE/TIME: Thursday, November 15, 2001, 9:30 a.m-5:30 p.m.

LOCATION: 1200 17th Street, NW., Suite 200—Conference Room, Washington, DC 20036.

STATUS: Open Session—Portions may be closed pursuant to Subseciton (c) of Section 552(b) of Title 5, United States Code, as provided in subsection 1706(h)(3) of the United States Institute of Peace Act, Public Law 98-525.

AGENDA: November 2001 Board Meeting; Approval of Minutes of the One Hundred First Meeting (September 20, 2001) of the Board of Directors; Chairman's Report; President's Report; Committee Reports; Other General Issues.

CONTACT: Dr. Sheryl Brown, Director, Office of Communications, Telephone: (202) 457-1700.

Dated: October 30, 2001.
Charles E. Nelson,
Vice President for Management and Finance, United States Institute of Peace.

[FR Doc. 01-27929 Filed 11-2-01; 11:36 a.m.]

BILLING CODE 6820-AR-M